DEPARTMENT OF DEFENSE

Office of the Secretary

[Docket No. DoD-2009-HA-0157]

Submission for OMB Review; Comment Request

ACTION: Notice.

The Department of Defense has submitted to OMB for clearance, the following proposal for collection of information under the provisions of the Paperwork Reduction Act (44 U.S.C. Chapter 35).

DATES: Consideration will be given to all comments received by November 1, 2010.

Title and OMB Number: Retired Troops to Nurse Teachers Survey; OMB Control Number 0720-TBD.

Type of Request: New.

Number of Respondents: 1,744.

Responses per Respondent: 1.

Annual Responses: 1,744.

Average Burden per Response: 20 minutes.

Annual Burden Hours: 576 hours.

Needs and Uses: The 2008 National Defense Authorization Act (Conference Report) gives impetus to this study, which calls for an evaluation of the provision in the Troops to Nurse Teachers (TNT) Act of 2008. Specifically, DoD will examine the feasibility and merits of this congressional proposal that outlines a program to encourage former military nurses to take faculty positions in nursing schools, for the purpose of encouraging more nurse graduates to consider military service. The Department will survey military nurses who are on active duty but close to retirement eligibility (20 years of service), or recently retired. The primary purpose of collecting data from this group is to determine what factors would attract a retiree to teach nursing. The survey will also cover civilian nursing school students to determine what incentives might entice them to seek positions in the military.

Affected Public: Individuals or households.

Frequency: One time.

Respondent's Obligation: Voluntary.

OMB Desk Officer: Mr. John Kraemer.

Written comments and recommendations on the proposed information collection should be sent to Mr. Kraemer at the Office of Management and Budget, Desk Officer for DoD, Room 10236, New Executive Office Building, Washington, DC 20503.

You may also submit comments, identified by docket number and title, by the following method:

• Federal eRulemaking Portal: http://www.regulations.gov. Follow the instructions for submitting comments.

Instructions: All submissions received must include the agency name, docket number and title for this Federal Register document. The general policy for comments and other submissions from members of the public is to make these submissions available for public viewing on the Internet at http://www.regulations.gov as they are received without change, including any personal identifiers or contact information.

DOD Clearance Officer: Ms. Patricia Toppings.

Written requests for copies of the information collection proposal should be sent to Ms. Toppings at WHS/ESD/Information Management Division, 1777 North Kent Street, RPN, Suite 11000, Arlington, VA 22209-2133.

Dated: September 23, 2010.
Patricia L. Toppings,
OSD Federal Register Liaison Officer, Department of Defense.

[FR Doc. 2010-24533 Filed 9-29-10; 8:45 am]

BILLING CODE 5001-06-P